DEPARTMENT OF HEALTH AND HUMAN SERVICES

Centers for Disease Control and Prevention

[30DAY-30-03]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 498-1210. Send written comments to CDC, Desk Officer, Human Resources and Housing Branch, New Executive Office Building, Room 10235, Washington, DC 20503. Written comments should be received within 30 days of this notice.

Proposed Project: An Evaluation of Targeted Health Communication Messages: Folic Acid and Neural Tube Defects (OMB No. 0920-0461)—Revision—The National Center on Birth Defects and Developmental Disabilities (NCBDDD), Centers for Disease Control and Prevention (CDC).

Background

The Division of Birth Defects and Developmental Disabilities, within NCBDDD launched a national education campaign in January 1999 to increase women's knowledge about neural tube birth defects (NTDs) and the beneficial role folic acid, a B vitamin, plays in the prevention of NTDs. Studies show that a 50 to 70 percent reduction in the risk of neural tube birth defects is possible if all women capable of becoming pregnant consume 400 micrograms of folic acid daily both prior to and during early pregnancy. Studies also indicate that Hispanic women have a greater risk for NTD-affected pregnancies than women in the general population. Specific, culturally sensitive, targeted media messages need to be directed at this population.

CDC and the March of Dimes Birth Defects Foundation developed health communication media messages and educational materials targeted to health care providers and English- and Spanish-speaking women. These media messages and educational materials consist of television and radio public service announcements (PSA), brochures and resource manuals. The Spanish-language folic acid communication evaluation survey examines the impact of Spanish-language media messages on the levels of awareness, knowledge, and vitamin use among Hispanic women of childbearing age.

Hispanic women's exposure to Spanish-language media messages and educational materials on folic acid information will be collected and measured to determine whether these exposures influenced the women's knowledge and usage of folic acid. The number and frequency of women's exposures to the media messages such as television and radio PSAs will be collected from media channels and compared to information collected from survey data, National Council on Folic Acid organizations and the National Clearinghouse on Folic Acid activities. The estimated annualized burden is 250 hours.

Respondents | Number of respondents | Number of responses/respondent | Avg. burden/response (in hours)
Telephone Interview | 1,000 | 1 | 15/60

Dated: February 28, 2003.
Thomas Bartenfeld,
Acting Associate Director for Policy, Planning and Evaluation, Centers for Disease Control and Prevention.

[FR Doc. 03-5395 Filed 3-6-03; 8:45 am]

BILLING CODE 4163-18-P